DEPARTMENT OF DEFENSE

Office of the Secretary

[Docket ID: DoD-2022-OS-0113]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by February 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Evaluation of U.S. Army Coaching for Resilience and Trauma-Informed Leadership Training Pilot submitted under “DoD-wide Data Collection and Analysis for the Department of Defense Qualitative and Quantitative Data Collection in Support of the Independent Review Commission on Sexual Assault Recommendations”; OMB Control Number 0704-0644.

Type of Request: New.

Coaching for Resilience (CFR) Surveys, Feedback Form, and Interviews (Soldiers)

Number of Respondents: 720.

Responses per Respondent: 1.55.

Annual Responses: 1,116 (720 for survey; 360 for feedback form; 36 for interviews).

Average Burden per Response: 15 minutes (surveys); 6 minutes (feedback forms); 45 minutes (interviews).

Annual Burden Hours: 423.

Trauma Informed Leadership Training Survey and Interviews (Drill Sergeants)

Number of Respondents: 180.

Responses per Respondent: 1.07.

Annual Responses: 192 (180 for survey; 12 for interviews).

Average Burden per Response: 15 minutes (survey); 45 minutes (interviews).

Annual Burden Hours: 54.

CFR Performance Expert Interviews

Number of Respondents: 12.

Responses per Respondent: 1.

Annual Responses: 12.

Average Burden per Response: 45 minutes.

Annual Burden Hours: 9.

Total

Number of Respondents: 912.

Annual Responses: 2,040.

Annual Burden Hours: 486.

Needs and Uses: The Independent Review Commission on Sexual Assault in the Military recommended that the Department “institute a pilot program to link Service members with resources and support” to actively support Service members with the most effective prevention interventions. The information collection is necessary to understand whether the Coaching for Resilience and Trauma-Informed Leadership Training pilot can be implemented with fidelity in the military as a primary prevention activity and whether it will produce beneficial outcomes. This information will help support the development of evidence-based approaches for prevention.

Affected Public: Individuals or households.

Frequency: On occasion.

Respondent's Obligation: Voluntary.

DoD Clearance Officer: Mr. Reginald Lucas.

Dated: January 13, 2025.
Stephanie J. Bost,
Alternate OSD Federal Register Liaison Officer, Department of Defense.

[FR Doc. 2025-01136 Filed 1-16-25; 8:45 am]

BILLING CODE 6001-FR-P